DEPARTMENT OF LABOR

Employment and Training Administration

[NAFTA-4287]

ABB/Westinghouse, Hematite Plant, Festus, Missouri; Notice of Negative Determination on Reconsideration

By application dated March 3, 2001, a petitioner requests administrative reconsideration of the Department's negative determination regarding eligibility to apply for North American Free Trade Agreement-Transitional Adjustment Assistance (NAFTA-TAA), applicable to workers and former workers of the subject firm. The denial notice applicable to workers of the subject firm was issued on February 7, 2001, and was published in the Federal Register on March 2, 2001 (66 FR 13087).

The petitioner presented new evidence regarding company imports of pellets from Canada.

The Department denied NAFTA-TAA to workers of ABB/Westinghouse, Hematite Plant, Festus, Missouri, producing nuclear fuel rods and pellets because criteria (3) and (4) of the group eligibility requirements of paragraph (a)(1) of section 250 of the Trade Act of 1974, as amended, were not met. There were no company imports of articles like or directly competitive with those produced by the workers. The production at the Festus, Missouri plant was shifted to a country other than Mexico or Canada.

On February 7, all workers of the subject firm were certified eligible to apply for Trade Adjustment Assistance (TA-W-38, 300). That investigation revealed that production at the Festus, Missouri, plant was being transferred to a foreign source outside of the United States, Mexico and Canada. The investigative findings also revealed that company imports, from countries other than Mexico and Canada, of articles like or directly competitive with those produced by the workers in Festus, Missouri, increased significantly.

On reconsideration, the Department has carefully reviewed the materials submitted by the petitioner with respect to the pellet imports shipped from Canada. This review finds that the company imports from countries other than Mexico or Canada contributed more importantly to declines in sales or production and to worker separations at ABB/Westinghouse, Hematite Plant, Festus, Missouri, than the Canadian imports identified by the petitioner.

Conclusion

After reconsideration, I affirm the original notice of negative determination of eligibility to apply for NAFTA-TAA for workers and former workers of ABB/Westinghouse, Hematite Plant, Festus, Missouri.

Signed at Washington, DC this 24th day of May 2001.
Edward A. Tomchick,
Director, Division of Trade Adjustment Assistance.

[FR Doc. 01-14419 Filed 6-7-01; 8:45 am]

BILLING CODE 4510-30-M